DEPARTMENT OF DEFENSE

Department of the Army

[Docket ID: USA-2011-0001]

Privacy Act of 1974; System of Records

AGENCY: Department of the Army, DoD.

ACTION: Notice to add a system of records.

SUMMARY: The Department of the Army proposes to add a system of records to its inventory of record systems subject to the Privacy Act of 1974 (5 U.S.C. 552a), as amended.

DATES: This proposed action would be effective without further notice on February 10, 2011 unless comments are received which result in a contrary determination.

ADDRESSES: You may submit comments, identified by docket number and/Regulatory Information Number (RIN) and title, by any of the following methods:

* Federal Rulemaking Portal: http://www.regulations.gov. Follow the instructions for submitting comments.

* Mail: Federal Docket Management System Office, Room 3C843, 1160 Defense Pentagon, Washington, DC 20301-1160.

Instructions: All submissions received must include the agency name and docket number or Regulatory Information Number (RIN) for this Federal Register document. The general policy for comments and other submissions from members of the public is to make these submissions available for public viewing on the Internet at http://www.regulations.gov as they are received without change, including any personal identifiers or contact information.

FOR FURTHER INFORMATION CONTACT: Mr. Leroy Jones at (703) 428-6185, or Department of the Army, Privacy Office, U.S. Army Records Management and Declassification Agency, 7701 Telegraph Road, Casey Building, Suite 144, Alexandria, VA 22325-3905.

SUPPLEMENTARY INFORMATION: The Department of the Army notices for systems of records subject to the Privacy Act of 1974 (5 U.S.C. 552a), as amended, have been published in the Federal Register and are available from the FOR FURTHER INFORMATION CONTACT address above.

The proposed system report, as required by 5 U.S.C. 552a(r) of the Privacy Act of 1974, as amended, was submitted on January 5, 2011 to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: January 5, 2011.
Morgan F. Park,
Alternate OSD Federal Register Liaison Officer, Department of Defense.

A0350-1c TRADOC

System name:

Digital Training Management System.

System location:

U.S. Army Combined Arms Center, Network Enterprise Center, 645 Biddle Blvd, Fort Leavenworth, KS 66027-2309.

Categories of individuals covered by the system:

Department of the Army military personnel (Active, National Guard and Reserve Components), Department of the Army civilian personnel, Department of the Army contractor personnel requiring or requesting access to Digital Training Management System (DTMS) and other Department of Defense personnel who have completed any Department of the Army courses of instruction.

Categories of records in the system:

Name, Social Security Number (SSN), rank, gender, birth date, medical appointment scheduling information, employment information includes, work e-mail and work phone number, unit number, military occupational specialty, and skill level. Additional information is provided voluntarily that consists of driver's license, personal cell telephone number, home telephone number, personal e-mail address, mailing/home address, spouse's first name, children's names, emergency contact, and education information.

Authority for maintenance of the system:

10 U.S.C. 3013, Secretary of the Army; Army Regulation 350-1, Army Training and Leader Development; and E.O. 9397 (SSN), as amended.

Purpose(s):

To support the on-going digital training management task. The system provides training managers with a comprehensive password protected management tool for conducting and tracking digital systems training online. DTMS allows users to completely manage the entire learning environment for all soldiers. Training managers at separate companies, battalions, brigades, divisions, corps, program managers, and other Department of Army agencies can access and utilize the system. DTMS tracks not only new equipment training (NET), but also sustainment, collective and individual training.

Routine uses of records maintained in the system, including categories of users and the purposes of such uses:

In addition to those disclosures generally permitted under 5 U.S.C. 552a(b) of the Privacy Act of 1974, these records contained therein may specifically be disclosed outside the DoD as a routine use pursuant to 5 U.S.C. 552a(b)(3) as follows:

The DoD `Blanket Routine Uses' set forth at the beginning of the Army's compilation of systems of records notices also apply to this system.

Policies and practices for storing, retrieving, accessing, retaining, and disposing of records in the system:

Storage:

Records are stored on electronic storage media.

Retrievability:

Data is retrieved by name, unit number, military occupational specialty, and skill level queries from within the DTMS application.

Safeguards:

Computerized records maintained in a controlled area are accessible only to authorized personnel. Records are maintained in a controlled facility. Physical entry is restricted by the use of locks, guards, and is accessible only to authorized personnel. Physical and electronic access is restricted to designated individuals having a need to know in the performance of official duties and who are properly screened and cleared.

Retention and disposal:

Records are archived after training is completed and maintained in the current file area until no longer needed for conducting business, but not longer than 6 years after the member's separation, then destroyed electronically.

System manager(s) and address:

Program Manager, U.S. Army Combined Arms Center, Collective Training Directorate, 513 Grant Ave, Fort Leavenworth, KS 66027-2309.

Notification procedure:

Individuals seeking to determine whether this system of records contains information about themselves should address written inquiries to the Program Manager, U.S. Army Combined Arms Center, Collective Training Directorate, 513 Grant Ave, Fort Leavenworth, KS 66027-2309.

For verification purposes, individuals should provide full name, unit number, rank, military occupational specialty, skill level, and signature.

In addition, the requester must provide a notarized statement or an unsworn declaration made in accordance with 28 U.S.C. 1746, in the following format:

If executed outside the United States: `I declare (or certify, verify, or state) under penalty of perjury under the laws of the United States of America that the foregoing is true and correct. Executed on (date). (Signature)'.

If executed within the United States, its territories, possessions, or commonwealths: `I declare (or certify, verify, or state) under penalty of perjury that the foregoing is true and correct. Executed on (date). (Signature)'.

Record access procedures:

Individuals seeking to access records about themselves should address written inquiries to the Program Manager, U.S. Army Combined Arms Center, Collective Training Directorate, 513 Grant Ave, Fort Leavenworth, KS 66027-2309.

For verification purposes, individuals should provide full name, unit number, rank, military occupational specialty, skill level, and signature.

In addition, the requester must provide a notarized statement or an unsworn declaration made in accordance with 28 U.S.C. 1746, in the following format:

If executed outside the United States: `I declare (or certify, verify, or state) under penalty of perjury under the laws of the United States of America that the foregoing is true and correct. Executed on (date). (Signature)'.

If executed within the United States, its territories, possessions, or commonwealths: `I declare (or certify, verify, or state) under penalty of perjury that the foregoing is true and correct. Executed on (date). (Signature)'.

Contesting record procedures:

The Army's rules for accessing records, contesting contents; and appealing initial agency determinations are contained in Army Regulation 340-21; 32 CFR part 505; or may be obtained from the system manager.

Record source categories:

From the individual, DoD staff, personnel, training and medical systems for use in appointment scheduling.

Exemptions claimed for the system:

None.

[FR Doc. 2011-330 Filed 1-10-11; 8:45 am]

BILLING CODE 5001-06-P